DEPARTMENT OF LABOR

Employment and Training Administration

Proposed Information Collection Request Submitted for Public Comment and Recommendations; State Alien Labor Certification Activity Report

AGENCY: Employment and Training Administration, Labor.

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95), 44 U.S.C. 3506(c)(2)(A). This program helps to ensure that requested data can be provided in the desired format, reporting burden (time and financial resources) is minimized, collection instruments are clearly understood, and the impact of collection requirements on respondents can be properly assessed. Currently, the Employment and Training Administration is soliciting comments concerning the proposed extension to the collection of information on the State Alien Labor Certification Activity Report. A copy of the proposed information collection request (ICR) can be obtained by contacting the office listed below in the addressee section of this notice.

DATES: Written comments must be submitted to the office listed in the addressee section below on or before March 12, 2001.

ADDRESSES: Comments and questions regarding the collection of information on Form ETA 9037, State Alien Labor Certification Activity Report, should be directed to Dale M. Ziegler, Chief, Division of Foreign Labor Certifications, U.S. Department of Labor, 200 Constitution Avenue, NW., Room C-4318, Washington, DC 20210 ((202) 693-3010 (this is not a toll-free number)).

SUPPLEMENTARY INFORMATION:

I. Background

Alien labor certification programs administered by the Employment and Training Administration (ETA) of the Department of Labor (DOL or Department) require State Employment Security Agencies (SESAs) to initially process applications for permanent and temporary labor certifications filed by U.S. employers on behalf of alien workers seeking to be employed in the U.S. SESAs are also responsible for issuing prevailing wage determinations, reviewing employer-provided wage surveys or other source data, conducting housing inspections of facilities offered to migrant and seasonal workers, and conducting and monitoring recruitment activities seeking qualified U.S. workers for the jobs employers are attempting to fill with foreign workers. The SESAs perform these functions under a reimbursable grant that is awarded annually. The information pertaining to these functions is collected on the Form ETA 9037 and will be used by Departmental staff to manage alien labor certification programs in the SESAs. The Department will be able to monitor the number of applications that the State has received, processed, and forwarded to ETA Regional offices, and the number of prevailing wage determinations issued to employers under the permanent and temporary labor certification programs, as well as the H-1B program for nonimmigrant professionals in specialty occupations. The information on workload will be used for formulating budget estimates for both State and Federal workloads, and for monitoring a State's performance against the Grant Statement of Work and Work Plan. Without such information, the budget workload figures will be estimates and the allocation of funding to the SESAs will not reflect the true workload in a State.

II. Review Focus

The Department of Labor is particularly interested in comments which:

• Evaluate whether the proposed information collection is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated, electronic, mechanical, or other technological collections techniques or other forms of information, e.g., permitting electronic submissions of responses.

III. Current Actions

In order for the Department to meet its statutory responsibilities under the INA there is a need for an extension of an existing collection of information pertaining to the State Alien Labor Certification Activity Report.

Type of Review: Extension.

Agency: Employment and Training Administration.

Title: State Alien Labor Certification Activity Report.

OMB Number: 1205-0319.

Agency Number: Form ETA 9037.

Recordkeeping: Semi-Annually.

Affected Public: State governments.

Total Responses: 108.

Average Time Per Response: 2 hours.

Total Burden Cost (Capital/Startup): 0.

Total Burden Cost (Operating/Maintaining): $50 per response.

Comment Language: Comments submitted in response to this notice will be summarized and/or included in the request for Office of Management and Budget approval of the information collection request; they will also be become a matter of public record.

Signed at Washington D.C. this 22nd day of December 2000.
Grace A. Kilbane,
Administrator, Office of Workforce Security.

[FR Doc. 01-727 Filed 1-9-01; 8:45 am]

BILLING CODE 4510-30-P